GOVERNMENT PUBLISHING OFFICE

Congressionally Mandated Reports: OMB/GPO Guidance

AGENCY: U.S. Government Publishing Office.

ACTION: Notice of OMB/GPO guidance on congressionally mandated reports.

SUMMARY: Federal agencies are now required by law to submit congressionally mandated reports to GPO by the end of the year. On June 21, 2023, GPO and the Office of Management and Budget (OMB) released a memo providing guidance to Federal agencies: https://www.whitehouse.gov/wp-content/uploads/2023/06/M-23-17-Access-to-Congressionally-Mandated-Reports-Act-Implementation-Guidance.pdf. The memo outlines instructions and deadlines for compliance with this mandate, including information about reports that are exempt from submission to GPO. The reports will be published and made available to the public on GPO's online system, GovInfo: https://www.govinfo.gov. Under this new requirement, agencies will also continue to submit printed, signed copies of mandated reports to Congressional committees and subcommittees. When fully deployed, this will be the first time congressionally mandated reports will be accessible to the public in one place. Beginning October 1, 2023, Federal agencies will designate a point of contact for report submission and register for an account for the upcoming GPO Submission Portal. All resources related to congressionally mandated reports for Federal agencies can be found at: https://www.gpo.gov/congressionally-mandated-reports. For questions, please use askGPO: https://ask.gpo.gov/. Select the Federal Agency customer type, and the Other inquiry category.

Hugh Nathanial Halpern,
Director, U.S. Government Publishing Office.

[FR Doc. 2023-14966 Filed 7-13-23; 8:45 am]

BILLING CODE 1520-01-P